COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and services to the Procurement List that will be furnished by nonprofit agencies employing persons who are blind or have other severe disabilities, and to delete a service previously furnished by such agency.

Comments Must be Received On or Before: 5/30/2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION:

This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to the Procurement List for production by the nonprofit agencies listed:

Products

Kit, Shelter-In-Place

NSN: 6545-00-NIB-0105.

NPA: Bosma Industries for the Blind, Inc., Indianapolis, IN.

Contracting Activity: Department of Veterans Affairs, NAC, Hines, IL.

Coverage: C-List for 100% of the requirement of the Department of Veterans Affairs as aggregated by the Department of Veterans Affairs National Acquisition Center, Hines, IL.

Strainer, Collapsible

NSN: M.R. 860.

NPA: Industries for the Blind, Inc., West Allis, WI.

Contracting Activity: Military Resale-Defense Commissary Agency, Fort Lee, VA.

Coverage: C-List for the requirements of military commissaries and exchanges as aggregated by the Defense Commissary Agency.

Services

Service Type/Location: Custodial Service, USDA APHIS—Plant Protection and Quarantine & Veterinary Services, 8100 NW 15th Place, Gainesville, FL.

NPA: The Arc of Bradford County, Starke, FL.

Contracting Activity: Dept of Agriculture, Animal and Plant Health Inspection Service, Minneapolis, MN.

Service Type/Location: Custodial Service, US Military Academy Preparatory School, West Point, NY.

NPA: New Dynamics Corporation, Middletown, NY.

Contracting Activity: Dept of the Army, W6QM West Point DOC, West Point, NY.

Service Type/Location: Base Operation Support Service, Department of Public Works (DPW), Fort Sill, OK.

NPAs: Professional Contract Services, Inc., Austin, TX (Prime Contractor), Work Services Corporation, Wichita Falls, TX (Subcontractor).

Contracting Activity: Mission and Installation Contracting Center, Fort Sam Houston, TX

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Janitorial/Custodial Service, Fort Polk: Buildings 1830 and 1807, Buildings 2155, 4050 and 427, Fort Polk, LA.

NPA: Vernon Sheltered Workshop, Inc., Leesville, LA.

Contracting Activity: Dept of the Army, W6QM ft Polk DOC, Fort Polk, LA.

Barry S. Lineback,
Director, Business Operations.

[FR Doc. 2011-10408 Filed 4-28-11; 8:45 am]

BILLING CODE 6353-01-P